DEPARTMENT OF COMMERCE

International Trade Administration

U.S. Education Mission to Brazil; Brasilia, Rio de Janeiro and São Paulo, Brazil, August 30-September 6, 2012

AGENCY: International Trade Administration, Department of Commerce.

ACTION: Notice.

Mission Description

The United States Department of Commerce, International Trade Administration, U.S. and Foreign Commercial Service (US&FCS), is organizing an education mission to Brazil (Brasilia, Rio de Janeiro, São Paulo) and is partnering with the United States Department of State's EducationUSA Advising Centers. The emphasis will be on U.S. higher education, focusing on, in order of importance, intensive English language programs, undergraduate and graduate programs, and community college programs. English language programs and other continuing education programs seeking to participate should be part of a U.S. college or university and accredited through them. Community colleges, undergraduate and graduate programs seeking to participate should be accredited by a recognized accreditation body listed in Council for Higher Education Accreditation (CHEA), in the Association of Specialized and Professional Accreditors (ASPA), or any accrediting body recognized by the U.S. Department of Education.

This mission will seek to connect United States education institutions to potential students and university/institution partners in Brazil. The mission will include student fairs organized by EducationUSA, embassy briefings, site visits, and networking events. Brasilia, Rio de Janeiro and São Paulo are three of the top cities for recruiting Brazilian students to the United States. Participating in the Education Mission, rather than traveling to these markets independently, will enhance the schools' ability to secure the appropriate meetings, especially in light of the high level engagement and support of U.S. education by the U.S. Ambassador in Brazil.

Commercial Setting

There are several types of opportunities for U.S. universities and institutions of higher learning in Brazil: (1) Attracting Brazilian students to the United States (2) establishing a campus in Brazil to offer courses and programs and (3) online training programs.

In March 2010, the United States and Brazil issued a joint statement to reaffirm the U.S.-Brazil Partnership for Education. Under the Partnership, the two countries endeavor to share information and expand cooperation in areas including promoting educational excellence; promoting diversity and equal opportunity in education; assessment, indicators and accountability; professional development for teachers and administrators; vocational-technical education; second language learning (English/Portuguese); U.S. community colleges and Brazilian federal institutes; and higher education cooperation and mobility. The partnership is working to strengthen educational exchanges between research and higher education institutions in the Science, Technology, Environment and Math fields.¹ Science Without Borders, a Brazilian government program, provides scholarships to Brazilian undergraduate students for one year of study at colleges and universities in the U.S. Scholarships are given primarily in the fields of science, technology, engineering and mathematics. Students then return to Brazil to complete their degrees.

¹ Bureau of Western Hemisphere Affairs, The United States and Brazil: An Education Partnership for the 21st Century, http://www.state.gov/p/wha/rls/fs/2011/158610.htm, March 19, 2011.

The United States has long been a top destination for Brazilian students looking to study abroad. Since 2006, the United States has seen an increase in the number of Brazilian students. There are some 8,777 Brazilians currently studying in the United States, a 16% increase from 2006; placing Brazil in 13th place among country of origin of international students in the U.S. The majority (46.3%) of Brazilian students in the United States are undergraduate students with Brazilian graduate students not too far behind at 34.8%.² The new agreement between the United States and Brazil could help reverse a contraction in the number of Brazilians studying overseas that followed a fiscal squeeze in the 1990s ³ when the government restricted fellowships for university study abroad, which made it possible for about 20,000 Brazilians to obtain their advanced degrees in the United States and Europe.⁴ Brazilian students and employers in Brazil have expressed the importance of education in areas that are well-aligned with the Brazilian job market. According to a recent Institute for Applied Economic Research (IPEA) study, 5.5 million workers in Brazil were unable to find jobs because they lacked the training and skills needed for current job openings. Brazil hopes to expand educational opportunities for students in order to meet employer's needs in commerce, high technology, engineering, and construction sectors.⁵

² Open Doors: Report on International Educational Exchange, published annually by IIE with support from the U.S. Department of State's Bureau of Educational and Cultural Affairs, http://www.iie.org/Research-and-Publications/Open-Doors/Data/Fact-Sheets-by-Country/~/media/Files/Corporate/Open-Doors/Fact-Sheets-2011/Country/Brazil%20Fact%20Sheet%20-%20Open%20Doors%202011.ashx.

³ Hennigan, Tom, Brazil: US, Europe Pursue Higher Education Ties, April 10, 2011, Issue 166.

⁴ U.S. Library of Congress, Colleges and Universities: Brazil, http://countrystudies.us/brazil/53.htm.

⁵ Nogueira, Danielle for Infosurhoy.com, Brazil: Educational System Threatening Economic Growth, 03/02/11.

The first stop on the mission itinerary is Brasilia, the capital city of Brazil. This visit would give the delegates an opportunity to directly interact with officials from the Government of Brazil regarding education policies. Brasilia has more than 114 universities recognized by the Ministry of Education (MEC). Brasilia would offer the delegates meetings with appropriate Brazilian government officials, an embassy reception, access to local bilingual high schools, and a student fair.

Then the group will travel to São Paulo. The highest rate of enrollment in schools is found in São Paulo, which is the economically wealthiest region of the nation. The mission participants will have the opportunity to participate in student recruitment fairs, high school/university visits and optional one-on-one meetings. The universities in São Paulo are leaders in terms of education and research in Brazil.⁶ The city of São Paulo has several colleges and universities while the state of São Paulo has more than 578 universities.

⁶ http://www.mapsofworld.com/cities/brazil/sao-paulo/education.html.

Finally, the delegation will travel to Rio de Janeiro to participate in a student recruitment fair and site visits to American and other bilingual high schools. The city of Rio de Janeiro boasts 99 higher education institutions which include 53 University-preparatory schools, 6 major universities and 47 private schools of higher education. The state of Rio de Janeiro has more than 137 upper-learning institutions. Three of the nation's top ranking universities, Rio de Janeiro State University, Federal University of Rio de Janeiro, and Pontifical Catholic University, are located in the city of Rio de Janeiro.⁷

⁷ http://en.wikipedia.org/wiki/Rio_de_Janeiro#Education.

Mission Goals

The goals of the United States Education Mission to Brazil are: (1) To help participants gain market exposure and to introduce participants to the vibrant Brazilian market in the three main metropolitan cities of Brasilia, São Paulo, and Rio de Janeiro; (2) to help participants assess current and future business prospects by establishing valuable contacts with prospective students and educational institutions/partners; and (3) to help participants develop market knowledge and relationships leading to student recruitment and potential partnerships.

Mission Scenario

Participation in the mission will include the following:

• Pre-travel briefings/webinars;

• Embassy/consulate and industry briefings;

• Reception with Ambassador;

• Student Fairs and local visits organized by EducationUSA in Brasilia, Rio de Janeiro and São Paulo;

• Airport transfers in Brasilia, São Paulo, Rio de Janeiro;

• Site visit in Brasilia and Rio de Janeiro; and

• Optional: Pre-scheduled meetings with educational partners in São Paulo

Proposed Mission Schedule—August 30-September 6, 2012

Brasilia—August 30-September 1, 2012

Thursday-August 30, 2012

—Arrive in Brasilia

—Check into hotel

Friday, August 31, 2012

—Ministry meetings/briefing on scholarship program, Visa Briefing

—Local visits to the American high school

—Lunch or evening reception with Ambassador

Saturday, September 1, 2012

—Student Fairs organized by EducationUSA, Under Secretary to open

São Paulo—September 2-4, 2012

Sunday, September 2, 2012

—Arrive in São Paulo and check into hotel

—Free Time

Monday—September 3, 2012

—11 a.m.-2 p.m. Visit to local high school

—5 p.m. EducationUSA Fair

Tuesday—September 4, 2012

—11 a.m.-1 p.m. Visit to local high school

—Depart for Rio de Janeiro

Rio de Janeiro—September 5-6, 2012

Wednesday—September 5, 2012

—Local high school visits

—Student fair organized by EducationUSA

Thursday—September 6, 2012

—No host breakfast/lunch; debrief with Under Secretary

—Depart for United States, or for the universities continuing on the EducationUSA South America Circuit, depart for Buenos Aires.

The Department of Commerce mission is only in Brazil. For schools interested in exploring additional markets in South America, Education USA offers a series of student fairs in the following cities after the mission:

—Buenos Aires—September 7th—Friday

—Santiago—September 8th—Saturday

—Lima—September 11th—Tuesday

—Quito—September 13th—Thursday

—Guayaquil—September 15th—Saturday

—Bogota—September 17th—Monday

—Caracas—September 19th—Wednesday

Participation Requirements

All parties interested in participating in the mission to Brazil must submit a complete application package for consideration to the U.S. Department of Commerce. They also must complete and submit the online application for consideration by the EducationUSA South America Fair. All applicants will be evaluated on their ability to meet certain conditions and best satisfy the selection criteria as outlined below. The mission will open on a first-come, first-served basis to a minimum of 50 and a maximum of 60 appropriately accredited U.S. institutions.

Selection Criteria for Participation

• Applicant must be appropriately accredited as per paragraph one.

• Consistency of the applicant's goals and objectives with the stated scope of the mission.

• Timeliness of signed application and participation agreement by institution Referrals from political organizations and any documents containing references to partisan political activities (including political contributions) will be removed from an applicant's submission and will not be considered during the selection process.

Conditions for Participation

An applicant must submit a timely, completed and signed mission application and supplemental application materials, including adequate information on courses offerings, primary market objectives, and goals for participation. The institution must be represented at the student fair by an employee. No agents will be allowed to represent a school on the mission or participate at the student fair. Agents will also not be allowed into the fairs to solicit new partnerships. If the Department of Commerce receives an incomplete application, the Department may reject the application, request additional information, or take the lack of information into account when evaluating the applications.

Each applicant must also certify that the services it seeks to export through the mission are either produced in the United States, or, if not, marketed under the name of a U.S. firm and have at least 51 percent U.S. content of the value of the service.

Fees and Expenses

After an institution has been selected to participate on the mission, a payment to the South America EducationUSA fair in the form of a participation fee is required. The participation fee is $3,750 dollars for one principal representative from each regionally accredited educational institution per city until May 31st and $4,110 dollars for applications received after this date. The fee for each additional representative is $300. Expenses for lodging, some meals, incidentals, and all travel (except for transportation to and from airports in-country, previously noted) will be the responsibility of each mission participant. The EducationUSA Fair offers government rates or below-government rates in all hotels in the circuit.

Timeframe for Recruitment and Applications

Mission recruitment will be conducted in an open and public manner, including publication in the Federal Register, posting on the Commerce Department trade mission calendar (http://export.gov/industry/education/) and other Internet Web sites, press releases to general and trade media, direct mail, notices by industry trade associations and other multiplier groups, and publicity at industry meetings, symposia, conferences, and trade shows. Recruitment for the mission will begin immediately and conclude no later than August 15, 2012. The mission will be open on a first come first served basis. Applications received after that date will be considered only if space and scheduling constraints permit.

Contact Information

U.S. Commercial Service in Brazil

Patricia S. Marega, Business Development Specialist, São Paulo Tel: (55-11) 5186-7482, patricia.marega@trade.gov.

U.S. Export Assistance Center

Joan Kanlian, Westchester USEAC Director, Tel: 914-682-6712, Email: Joan.Kanlian@trade.gov.

Elnora Moye,
Trade Program Assistant.

[FR Doc. 2012-5451 Filed 3-6-12; 8:45 am]

BILLING CODE 3510-FP-P